DEPARTMENT OF LABOR

Office of Federal Contract Compliance Programs

Notice of Reinstatement of Milwaukee Fence Co.

AGENCY: Office of Federal Contract Compliance Programs, Department of Labor.

ACTION: Notice of reinstatement, Milwaukee Fence Co.

SUMMARY: This notice advises that Milwaukee Fence Co., has been reinstated as an eligible bidder on Federal and federally assisted construction contracts and subcontracts. For further information, contact Harold M. Bush, Acting Deputy Assistant Secretary for Federal Contact Compliance, U.S. Department of Labor, 200 Constitution Avenue, NW., Room C-3325, Washington, DC 20210 (202) 693-1072.

SUPPLEMENTARY INFORMATION: Milwaukee Fence Co., Milwaukee, Wisconsin, is as of this date, reinstated as an eligible bidder on Federal and federally assisted construction contracts and subconstracts.

Signed at Washington, DC this 4th day of May, 2001.
Harold M. Busch,
Acting Deputy Assistant Secretary for Federal Contract Compliance.

[FR Doc. 01-11908 Filed 5-10-01; 8:45 am]

BILLING CODE 4510-27-M